DEPARTMENT OF ENERGY

Federal Energy Regulatory Commission

[Docket No. CP06-85-000]

CenterPoint Energy Gas Transmission Company; Notice of Availability of the Final Environmental Impact Statement for the Proposed Carthage to Perryville Project

August 18, 2006.

The staff of the Federal Energy Regulatory Commission (FERC or Commission) has prepared this Final Environmental Impact Statement (EIS) for the natural gas pipeline facilities proposed by CenterPoint Energy Gas Transmission (CEGT) under the above-referenced docket. CEGT's Carthage to Perryville Project (Project) would be located in various counties and parishes in eastern Texas and northern Louisiana.

The Final EIS was prepared to satisfy the requirements of the National Environmental Policy Act. The FERC staff concludes that the proposed Project, with the appropriate mitigation measures as recommended, would have limited adverse environmental impact.

The U.S. Fish and Wildlife Service (FWS) and the U.S. Army Corps of Engineers (COE) are Federal cooperating agencies for the development of this EIS. A Federal cooperating agency has jurisdiction by law or special expertise with respect to any environmental impact involved with the proposal and is involved in the NEPA analysis.

The general purpose of the proposed Project is to facilitate the transport of up to 1.2 billion cubic feet per day of natural gas received from production areas in eastern Texas, as well as northern Louisiana, to markets in the Midwest and Northeastern regions of the United States that can be accessed through interconnects with existing pipeline infrastructure.

The Final EIS addresses the potential environmental effects of construction and operation of the following facilities:

• About 172.1 miles of 42-inch-diameter natural gas pipeline in Panola County, Texas, and Caddo, DeSoto, Red River, Bienville, Jackson, Ouachita, and Richland Parishes, Louisiana;

• Two new, 20,620 horsepower (hp) gas-turbine-driven compressor stations, the Panola and Vernon Compressor Stations, located in Panola County, Texas, and Jackson Parish, Louisiana, respectively;

• Two meter and regulator stations at receipt points with three intrastate pipelines, including:

—Houston Pipe Line (HPL) Meter/Regulator (M/R) Station in Panola County, Texas;

—Duke Energy Field Services-Enbridge M/R Station in Panola County, Texas;

• Four new meter and regulator stations at interconnects with existing interstate pipelines, including:

—Texas Gas M/R Station in Ouachita Parish, Louisiana;

—ANR M/R Station in Richland Parish, Louisiana;

—Trunkline M/R Station in Richland Parish, Louisiana;

—Columbia Gulf M/R Station in Richland Parish, Louisiana;

• 11 mainline valves; and

• Four pig launcher/receiver facilities associated with the Panola and Vernon Compressor Stations and the HPL and Columbia Gulf M/R Stations.

CEGT proposes to construct its pipeline facilities in two phases. Construction of Phase I would be initiated in October 2006 and completed by February 2007, at which point CEGT would place the proposed Project in-service. Under Phase I, a single, 10,310-hp turbine compressor would be installed at each compressor station. Under Phase II, a second compressor would be installed to bring the total installed compression at each facility to 20,620 hp. CEGT indicates that Phase II facilities would be installed and operational by October 2008.

The Final EIS has been placed in the public files of the FERC and is available for public inspection at: Federal Energy Regulatory Commission, Public Reference Room, 888 First Street, NE., Room 2A, Washington, DC 20426, (202) 502-8371.

A limited number of copies of the Final EIS are available from the Public Reference Room identified above. In addition, CD copies of the Final EIS have been mailed to affected landowners; various Federal, state, and local government agencies; elected officials; environmental and public interest groups; Native American tribes; local libraries and newspapers; intervenors; and other individuals that expressed an interest in the proposed Project. Hard-copies of the Final EIS have also been mailed to those who requested that format during the scoping and comment periods for the proposed Project.

In accordance with the Council on Environmental Quality's (CEQ) regulations implementing NEPA, no agency decision on a proposed action may be made until 30 days after the U.S. Environmental Protection Agency (EPA) publishes a notice of availability of a Final EIS. However, the CEQ regulations provide an exception to this rule when an agency decision is subject to a formal internal process that allows other agencies or the public to make their views known. In such cases, the agency decision may be made at the same time the notice of the Final EIS is published, allowing both periods to run concurrently. Should the FERC issue CEGT authorizations for the proposed Project, it would be subject to a 30-day rehearing period. Therefore, the Commission could issue its decision concurrently with the EPA's notice of availability.

Additional information about the project is available from the Commission's Office of External Affairs, at 1-866-208-FERC (3372) or on the FERC Internet Web site (http://www.ferc.gov). Using the “eLibrary link,” select “General Search” and enter the project docket number excluding the last three digits (i.e., CP06-85) in the “Docket Number” field. Be sure you have selected an appropriate date range. For assistance, please contact FERC Online Support at FERCOnlineSupport@ferc.gov or toll free at 1-866-208-3676, or TTY (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E6-14012 Filed 8-23-06; 8:45 am]

BILLING CODE 6717-01-P